DEPARTMENT OF COMMERCE

National Oceanic and Atmospheric Administration

50 CFR Part 600

[I.D. 021903E]

Magnuson-Stevens Act Provisions; General Provisions for Domestic Fisheries; Application for Exempted Fishing Permit (EFP)

AGENCY: Department of Commerce, National Oceanic and Atmospheric Administration (NOAA), National Marine Fisheries Service (NMFS).

ACTION: Notification of a proposal for EFPs to conduct experimental fishing; request for comments.

SUMMARY: The Administrator, Northeast Region, NMFS (Regional Administrator) has made a preliminary determination that the subject EFP application contains all the required information and warrants further consideration. The Regional Administrator has also made a preliminary determination that the activities authorized under the EFP would be consistent with the goals and objectives of the Northeast (NE) Multispecies Fishery Management Plan (FMP). However, further review and consultation may be necessary before a final determination is made to issue the EFP. Therefore, NMFS announces that the Regional Administrator proposes to issue an EFP that would allow one vessel to conduct fishing operations that are otherwise restricted by the regulations governing the fisheries of the Northeastern United States. The EFP would exempt one vessel from the minimum mesh size requirements for the Gulf of Maine (GOM) Regulated Mesh Area (RMA); regulations pertaining to the GOM Rolling Closure Areas II, III, IV, and V; days-at-sea (DAS) restrictions; and minimum fish size requirements. The experiment proposes to conduct a study to target cod and flounder using a modified trawl net constructed with a changeable inner mesh size codend surrounded by a small mesh codend cover to determine the selectivity of various square mesh sizes and mesh types. The EFP would allow these exemptions for one commercial vessel, for not more than 24 days of sea trials. All experimental work would be monitored at sea by a biologist from a contracted consulting group and supervised ashore and on board (during key trips) by the project coordinator for the Cooperative Research Partners Initiative-funded project.

Regulations under the Magnuson-Stevens Fishery Conservation and Management Act require publication of this notification to provide interested parties the opportunity to comment on applications for proposed EFPs.

DATES: Comments on this document must be received on or before March 17, 2003.

ADDRESSES: Written comments should be sent to Patricia A. Kurkul, Regional Administrator, NMFS, Northeast Regional Office, 1 Blackburn Drive, Gloucester, MA 01930. Mark the outside of the envelope “Comments on the Cooperative Research Partners Initiative Gloucester, MA Trawl Selection Study.” Comments may also be sent via facsimile (fax) to (978) 281-9135.

FOR FURTHER INFORMATION CONTACT: Douglas W. Christel, Fisheries Management Specialist, 978-281-9141.

SUPPLEMENTARY INFORMATION: A completed application for an EFP was submitted by Joseph B. Novello as part of a Cooperative Research Partners Initiative-funded project on January 13, 2003. The EFP would exempt one federally permitted commercial fishing vessel from the following NE multispecies provisions: The minimum mesh size requirements for the GOM RMA at 50 CFR 648.80(a)(3)(i); regulations pertaining to the GOM Rolling Closure Areas II, III, IV, and V at 50 CFR 648.81(g)(1)(ii), (iii), (iv), and (v), respectively; NE multispecies DAS restrictions at 50 CFR 648.82(a); and minimum fish size requirements specified at 50 CFR 648.83(a)(1).

The EFP would allow the commercial vessel to conduct the proposed study using a modified trawl net constructed with a changeable inner mesh size codend (liner) surrounded by a small mesh (3-inch (7.62-cm)) codend cover in order to determine the optimal square mesh net size and net type (knotted vs. unknotted) for bottom trawl gear for the purpose of reducing bycatch. A total of four liners would be constructed, including three using larger square panel knotted mesh nets (6.5, 7.0, and 7.4-inch (16.51-cm, 17.78-cm, and 18.80-cm, respectively)) and one consisting of 6.5-inch (16.51-cm) square panel unknotted mesh. For each liner, three 1-day fishing trips would be directed on cod, and three, 1-day trips would target witch flounder, for a total of 24 DAS. The incidental catch is expected to be primarily dogfish, skates, monkfish, and American lobster; however, summer flounder, winter flounder, yellowtail flounder, and American plaice may be caught during the targeted witch flounder trips.

The applicant requested that the research be conducted in the GOM in an area including 30-minute statistical squares 124, 125, 132, and 133, or between 42°00′ and 43°00′ N. lat. and between 70°00′ and 71°00′ W. long. The tows would take place between April 1 and December 31, 2003. Fish retained by the experimental net would be enumerated, weighed and measured, and returned to the sea as quickly as possible. Selection curves, 50-percent retention lengths, selection factors, and selection ranges would be determined for each of the four square-mesh liners. Since no fish would be landed as a result of this study, a NE multispecies DAS exemption would compensate for the fact that no economic benefit would result from fishing during the course of this EFP.

The participating vessel would be required to report all landings in its Vessel Trip Report. The data collection activities aboard the participating vessel would be conducted by a biologist with the Allan D. Michael & Associates consulting group and supervised ashore and aboard (on key trips) by the project coordinator, or his official designee, to ensure compliance with the experimental fishery objectives. The EFP would also contain a provision that the Regional Administrator has the authority to reconsider the continuation of the experimental fishery on a month-to-month basis, based upon a monthly status report outlining total catch and bycatch submitted by the applicant, and would authorize the Regional Administrator to terminate the experimental fishery at any time, at her discretion.

Based on the results of the EFPs, this action may lead to future rulemaking.

Authority: 16 U.S.C. 1801 et seq.

Dated: February 21, 2003.
Richard W. Surdi,
Acting Director, Office of Sustainable Fisheries, National Marine Fisheries Service.

[FR Doc. 03-4681 Filed 2-27-03; 8:45 am]

BILLING CODE 3510-22-S